DEPARTMENT OF THE INTERIOR

National Park Service

[NPS-WASO-NRNHL-DTS#-31124; PPWOCRADI0, PCU00RP14.R50000]

National Register of Historic Places; Notification of Pending Nominations and Related Actions

AGENCY: National Park Service, Interior.

ACTION: Notice.

SUMMARY: The National Park Service is soliciting electronic comments on the significance of properties nominated before October 24, 2000, for listing or related actions in the National Register of Historic Places.

DATES: Comments should be submitted electronically by November 27, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before October 24, 2000. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

COLORADO

Chaffee County

Maxwell Park School, (Rural School Buildings in Colorado MPS), Northwest corner, Jct. of Cty. Rds. 321 and 326, Buena Vista vicinity, MP100005853

Denver County

James, Harry C., House, 685 North Emerson St., Denver, SG100005854

Pueblo County

Central Junior High School-Keating Junior High School, 215 East Orman Ave., Pueblo, SG100005855

INDIANA

Bartholomew County

Daugherty, James and Annetta, House and Barn, 6443 South Jonesville Rd., Columbus vicinity, SG100005878

Brown County

Brown County State Park, (New Deal Resources on Indiana State Lands MPS), 1405 IN 46 West, Nashville vicinity, MP100005867

Floyd County

East Spring Street Historic District (Boundary Increase) Roughly bounded by alley north/northwest of Elm St., the west curb line of Vincennes St., alley south/southwest of Market St., and the east curb line of 5th St., New Albany, BC100005877

Marion County

St. Timothy's Episcopal Church, 2601 East Thompson Rd., Indianapolis, SG100005873

Tate-Tatum Farm, 1780 East Rayletown Rd., Sanders vicinity, SG100005874

Vanderburgh County

Hebron Meadows Historic District (Residential Planning and Development in Indiana, 1940-1973 MPS) Roughly bounded by 4000-4311 Bellemeade Ave., 700-961 South Colony Rd., 700-901 South Meadow Rd., 698-961 Blue Ridge Rd., and the north side of Washington Ave., including 4020-4328, Evansville, MP100005870

Vigo County

Rocky Edge, 46 Allendale, Terre Haute, SG100005872

Terre Haute City Hall (Downtown Terre Haute MRA), 17 Harding Ave., Terre Haute, MP100005875

Wabash County

F. & A.M. Tuscan Lodge No. 143, 828 Washington St., Lagro, SG100005869

I.O.R.M. Hall, Tonkawa No. 126, 828 Washington St., Lagro, SG100005871

Washington County

Blue River Friends Hicksite Meeting House and Cemetery, 1232 North Quaker Rd., Salem vicinity, SG100005866

NEW JERSEY

Camden County

Cole Landing Tavern, 500 Cole Landing Rd., Gloucester Township, SG100005879

Hunterdon County

Thatcher House (Traditional Patterned Brickwork Buildings in New Jersey MPS), 255 Ridge Rd., Kingwood Township, MP100005851

Monmouth County

Asbury Park Public Library, 500 1st Ave., Asbury Park City, SG100005840

NEW YORK

Oswego County

West Broadway Commercial Historic District, 109-126 West Broadway, Fulton, SG100005848

Amboy District No. 2 Schoolhouse, 398 NY 69, East Amboy vicinity, SG100005849

Richmond County

Olmstead, Frederick Law, Sr., Farmhouse, 4515 Hylan Blvd., Staten Island, SG100005846

Seneca County

Jones, Hannah and George W. House, 7246 Main St., Ovid vicinity, SG100005847

NORTH CAROLINA

Guilford County

Blue Bell Company Plant (Greensboro MPS) 620 South Elm St., Greensboro, MP100005841

NORTH DAKOTA

Grand Forks County

Administration Building for the City of Grand Forks at the Grand Forks Airport (Federal Relief Construction in North Dakota, 1931-1943, MPS) 802 North 43rd St., Grand Forks, MP100005844

OHIO

Franklin County

Ohio Baptist General Association Headquarters (Twentieth-Century African American Civil Rights Movement in Ohio MPS) 48 Parkwood Ave., Columbus, MP100005845

Lucas County

The Broer-Freeman Building, 622 Jefferson Ave., Toledo, SG100005856

OKLAHOMA

Caddo County

Bridgeport Bridge (Route 66 and Associated Resources in Oklahoma AD MPS) North US 281 over the South Canadian R., Bridgeport vicinity, MP100005858

Bridgeport Bridge (US Highway 66, from Chicago to Santa Monica) North US 281 over the South Canadian R., Bridgeport vicinity, MP100005858

Carter County

Young Cemetery, 1/8th of a mi. north of Seven Sisters Hills Rd., Ardmore vicinity, SG100005859

Le Flore County

Hotel Lowrey, 301 Dewey Ave., Poteau, SG100005860

Noble County

Schultz-Neal Stone Barn, 250 yds. east of US 177/OK 15, 7 mi. southeast of of Red Rock, Red Rock vicinity, SG100005861

Oklahoma County

Brockway Community Center, 1440 North Everest Ave., Oklahoma City, SG100005862

McClean House, 141 NE 26th St., Oklahoma City, SG100005863

Tulsa County

Tulsa Boys' Home Historic District, Bounded by East 8th St., South Quincy Ave., East 7th St., and South Rockford Ave., Tulsa, SG100005864

Washington County

First United Methodist Church, 500 South Johnstone Ave., Bartlesville, SG100005865

VIRGINIA

Danville Independent City

Schoolfield Historic District, Park Ave., Park Cir., Memorial Dr., Dan R., Laurel Ave., Rutledy Cr., Fairfield and Selma Aves., Danville, SG100005881

Fairfax County

Bois Doré, 8008 Georgetown Pike, McLean, SG100005880

Roanoke Independent City

Southwest Historic District (Boundary Increase) Roughly bounded by Westview, Westport, Salem, Jackson, Norfolk, Rorer, Campbell, Marshall, Day, Jefferson, and Clark Aves., Roanoke R., 13th and 21st Sts. St., Roanoke, BC100005882

WEST VIRGINIA

Jefferson County

Rocks, The, 1003 Westside Ln., Charles Town, SG100005843

A request for removal has been made for the following resource:

GEORGIA

Fulton County

Wilson, Judge William, House, 501 Fairburn Rd. SW, Atlanta, OT80001078

A request to move has been received for the following resource:

NORTH CAROLINA

Wake County

Jones, Nancy, House, NC 54, Cary vicinity, MV84002540

Additional documentation has been received for the following resource:

INDIANA

Floyd County

East Spring Street Historic District (Additional Documentation) Roughly bounded by East 5th, East Spring, East 8th, and East Market Sts., New Albany, AD02001566

Nominations submitted by Federal Preservation Officers:

The State Historic Preservation Officer reviewed the following nominations and responded to the Federal Preservation Officer within 45 days of receipt of the nominations and supports listing the properties in the National Register of Historic Places.

FLORIDA

Volusia County

Leeper, Doris, House, ½ mi. south of Eldora Rd., Canaveral NS, New Smyrna Beach vicinity, SG100005857

GEORGIA

Richmond County

Neuropsychiatric Tuberculosis Ward-Building 7 (United States Second Generation Veterans Hospitals MPS) 1900 Maryland Ave., Charlie Norwood VA Medical Center, Augusta, MP100005883

Neuropsychiatric Infirmary—Building 76 (United States Second Generation Veterans Hospitals MPS) 1798 Maryland Ave., Charlie Norwood VA Medical Center, Augusta, MP100005884

Authority: Section 60.13 of 36 CFR part 60.

Dated: October 27, 2020.
Sherry A. Frear,
Chief, National Register of Historic Places/National Historic Landmarks Program.

[FR Doc. 2020-25033 Filed 11-10-20; 8:45 am]

BILLING CODE 4312-52-P